DEPARTMENT OF THE INTERIOR

National Park Service

[NPS-WASO-D-COS-POL-37729; PPWODIREP0][PPMPSPD1Y.YM0000]

Advisory Committee on Reconciliation in Place Names Request for Nominations

AGENCY: National Park Service, Interior.

ACTION: Request for nominations notice.

SUMMARY: The U.S. Department of the Interior (Department) is requesting nominations for qualified persons to serve as members of the Advisory Committee on Reconciliation in Place Names (Committee).

DATES: Nominations for the Committee must be submitted by July 22, 2024.

ADDRESSES: Nominations should be emailed to Alma Ripps, Designated Federal Officer, Office of Policy, National Park Service, at alma_ripps@nps.gov.

FOR FURTHER INFORMATION CONTACT: Alma Ripps, via telephone (202) 354-3950, or by email alma_ripps@nps.gov.

SUPPLEMENTARY INFORMATION: The Committee was established under the authority of the Secretary and is regulated by the Federal Advisory Committee Act (FACA), as amended (5 U.S.C. ch. 10). The Committee's duties are strictly advisory and consist of providing recommendations for implementation of Secretary's Order No. 3405—Addressing Derogatory Geographic Names.

Duties shall include, but are not limited to (1) recommending to the Secretary changes to existing Federal land unit names and additional terms that may be considered derogatory and identifying resources required to implement any resulting name changes; (2) recommending to the Secretary a process to solicit, encourage, and assist proposals to change derogatory geographic names; and (3) soliciting proposals to replace derogatory geographic features and Federal land unit names from Indian Tribes, appropriate State and local governments, affected Federal agencies and departments, and members of the public.

The term “Federal land unit” includes (1) National Forest System land; (2) a unit of the National Park System; (3) a component of the National Wilderness Preservation System; (4) any part of the National Landscape Conservation System; and (5) a unit of the National Wildlife Refuge System.

The Committee will meet approximately two to four times per year. The Committee will consist of no more than 17 discretionary members to be appointed by the Secretary of whom, to the extent practicable:

1. At least four will be members of an Indian Tribe;

2. At least one will represent a Tribal organization;

3. At least one will represent a Native Hawaiian organization;

4. At least four will have backgrounds in civil rights or race relations;

5. At least four will have expertise in anthropology, cultural studies, geography, or history; and

6. At least three will represent the general public.

Appointments will be on a staggered term basis for a term not to exceed 3 years.

Nominations must include a resume providing an adequate description of the nominee's qualifications, including information that would enable the Department of the Interior to make an informed decision regarding meeting the membership requirements of the Committee and permit the Department to contact a potential member. All those interested in membership, including current members whose terms are expiring, must follow the same nomination process. Members may not appoint deputies or alternates.

Members who are appointed to the Committee in their official capacity as Federal employees are subject to applicable Federal ethics statutes and regulations, to include applicable exceptions and exemptions.

As appropriate, certain Committee members may be appointed as special Government employees (SGEs). Please be aware that applicants selected to serve as SGEs will be required, prior to appointment, to file a Confidential Financial Disclosure Report in order to avoid involvement in real or apparent conflicts of interest. You may find a copy of the Confidential Financial Disclosure Report at the following website: OGE Form 450 | U.S. Department of the Interior (doi.gov). Additionally, after appointment, members appointed as SGEs will be required to meet applicable financial disclosure and ethics training requirements. Please contact (202) 202-208-7960 or DOI_Ethics@sol.doi.gov with any questions about the ethics requirements for members appointed as SGEs.

Non-Federal members of the Committee and subcommittees appointed as representatives are not subject to Federal ethics statutes and regulations. However, no non-Federal Committee or subcommittee members willparticipate in any Committee or subcommittee deliberations or votes relating to a specific party matter before the Department or its bureaus and offices including a lease, license, permit, contract, grant, claim, agreement, or litigation, in which the member or the entity the member represents has a direct financial interest.

Members serve without compensation. However, while away from their homes or regular places of business in the performance of services for the Committee as approved by the Designated Federal Officer, members may be allowed travel expenses, including per diem in lieu of subsistence.

In addition, the Committee will have non-voting ex-officio members including, but not limited to a Department of the Interior representative; a Department of Agriculture representative; a Department of Defense representative; and a Department of Commerce representative.

Authority: 5 U.S.C. ch. 10.

Alma Ripps,
Chief, Office of Policy.

[FR Doc. 2024-13493 Filed 6-18-24; 8:45 am]

BILLING CODE 4312-52-P